DEPARTMENT OF COMMERCE

National Oceanic and Atmospheric Administration

RIN 0648-XD131

Takes of Marine Mammals Incidental to Specified Activities; Taking Marine Mammals Incidental to Construction of the Block Island Transmission System

AGENCY: National Marine Fisheries Service (NMFS), National Oceanic and Atmospheric Administration (NOAA), Commerce.

ACTION: Notice; issuance of a revised incidental harassment authorization.

SUMMARY: Notice is hereby given that we have revised an incidental harassment authorization (IHA) issued to The Narragansett Electric Company, doing business as National Grid (TNEC), to take marine mammals, by harassment, incidental to construction of the Block Island Transmission System (BITS). The project has been delayed and the effective dates revised accordingly.

DATES: This authorization is now effective from October 30, 2015, through October 29, 2016.

ADDRESSES: A copy of this revised IHA is available by writing to Jolie Harrison, Chief, Permits and Conservation Division, Office of Protected Resources, National Marine Fisheries Service, 1315 East-West Highway, Silver Spring, MD 20910.

An electronic copy of this revised IHA may be obtained by visiting the Internet at: http://www.nmfs.noaa.gov/pr/permits/incidental/.

FOR FURTHER INFORMATION CONTACT: John Fiorentino, Office of Protected Resources, NMFS, (301) 427-8477.

SUPPLEMENTARY INFORMATION:

Background

On November 1, 2014, NMFS issued an IHA to Deepwater Wind Block Island Transmission, LLC (DWBIT) to take marine mammals, by Level B harassment, incidental to construction of the BITS, effective from November 1, 2014 through October 31, 2015 (79 FR 51314). On January 30, 2015, DWBIT sold the BITS, in its entirety, to The Narragansett Electric Company, doing business as National Grid (TNEC). We issued a revised IHA reflecting this change in the name of the holder on June 3, 2015, with the dates of effectiveness of the IHA, and all mitigation, monitoring, and reporting requirements, remaining unchanged. The BITS, a bi-directional submarine transmission cable, will interconnect Block Island to TNEC's existing distribution system in Narragansett, Rhode Island. In-water work associated with the project was expected to be completed within the one-year timeframe of the IHA (effective dates originally November 1, 2014 through October 31, 2015). The following specific aspects of the planned activities are likely to result in the take of marine mammals: Vibratory pile driving and the use of dynamically positioned (DP) vessel thrusters. Take, by Level B Harassment only, of individuals of nine species (Atlantic white-sided dolphin, short-beaked common dolphin, harbor porpoise, minke whale, fin whale, humpback whale, North Atlantic right whale, gray seal, and harbor seal) is anticipated to result from the specified activity.

Summary of the Activity

TNEC plans to construct a bi-directional submarine transmission cable that will run from Block Island to the Rhode Island mainland. Construction of the marine portion of the BITS will involve three activities: Cable landfall construction on Block Island using a short-distance horizontal directional drill (HDD) from a temporary excavated trench box on Crescent Beach; cable landfall construction on Scarborough State Beach in Narragansett, Rhode Island using a long-distance HDD from a temporary offshore cofferdam; and installation of the submarine BITS cable. The BITS will interconnect Block Island to the existing Narragansett Electric Company National Grid distribution system on the Rhode Island mainland. Cable landfall construction may require the installation and removal of a temporary offshore cofferdam, which will involve vibratory pile driving. The generation of underwater noise from vibratory pile driving and the DP vessel thruster may result in the incidental take of small numbers of marine mammals.

Summary of the Revision

Construction activities have been delayed for the project due to a construction schedule dependent upon receipt of all environmental permits and licenses, procurement and completion of final engineering design. The final permit approval and contractor award were issued in late Winter 2015 and final engineering design was not completed until Fall 2015. Therefore, construction activities have not commenced to date. No in-water work has occurred, including all aspects of the specified activity considered in our issuance of the IHA. The IHA, as issued, is a one-year IHA with no consideration of seasonality in timing any component of the specified activity.

Findings

Marine Mammal Protection Act (MMPA)—As required by the MMPA in order to issue an IHA, we determined that (1) the required mitigation measures are sufficient to reduce the effects of the specified activities to the level of least practicable impact; (2) the authorized takes will have a negligible impact on the affected marine mammal species; (3) the authorized takes represent small numbers relative to the affected stock abundances; and (4) TNEC's activities will not have an unmitigable adverse impact on taking for subsistence purposes as no relevant subsistence uses of marine mammals are implicated by this action. Shifting the effective dates of the IHA to accommodate TNEC's delayed schedule for this project has no effect on our analysis of project impacts and does not affect our findings. There are no changes to any construction methodologies.

National Environmental Policy Act (NEPA)—In compliance with the National Environmental Policy Act of 1969 (42 U.S.C. 4321 et seq.), as implemented by the regulations published by the Council on Environmental Quality (40 CFR parts 1500-1508), and NOAA Administrative Order 216-6, NMFS prepared an Environmental Assessment (EA) analyzing the potential impacts of the issuance of an IHA for the BITS construction. The final EA was prepared in July 2014 and NMFS made a Finding of No Significant Impact for this action on August 19, 2014. These documents are available on our Web site at http://www.nmfs.noaa.gov/pr/permits/incidental/energy_other.htm.

The potential environmental impacts of the revision to the BITS IHA are within the scope of the environmental impacts analyzed in the EA. NMFS has determined that there are no substantial changes to the action and that there are no new direct, indirect, or cumulative effects to the human environment resulting from the revision to the IHA. Therefore, NMFS has determined that new or supplemental EAs or Environmental Impact Statements are unnecessary, and reaffirms the existing FONSI for this action.

Endangered Species Act (ESA)—There are three marine mammal species that are listed as endangered under the ESA: Fin whale, humpback whale, and North Atlantic right whale. Under section 7 of the ESA, the U.S. Army Corps of Engineers (the federal permitting agency for the actual BITS construction) consulted with NMFS on the proposed BITS project. NMFS also consulted internally on the issuance of an IHA under section 101(a)(5)(D) of the MMPA for this activity. NMFS Northeast Region (now known as the Greater Atlantic Regional Office (GARFO)) issued a Biological Opinion on January 30, 2014, concluding that the Block Island Wind Farm project (which includes the BITS) and NMFS' issuance of an IHA may adversely affect but are not likely to jeopardize the continued existence of fin whale, humpback whale, or North Atlantic right whale. The Biological Opinion further concluded that critical habitat would not be affected by the proposed action since it did not occur in the action area. NMFS determined the revision to the IHA to change the authorization period of effectiveness to October 30, 2015, through October 29, 2016 falls within the scope of what was analyzed in the Biological Opinion and does not change the basis for NMFS' original determinations. In a memo dated October 21, 2015, NMFS made the determination that a re-initiation of a section 7 formal consultation was not necessary.

In summary, no new information is available that would substantively affect our analyses under the MMPA, NEPA, or ESA. All mitigation, monitoring, and reporting measures described in our notice of issuance of the IHA remain in effect. The species for which take was authorized and the numbers of incidences of take authorized are unchanged.

As a result of the foregoing, we have revised the IHA issued to TNEC for construction of the BITS. The IHA is now effective from October 30, 2015, through October 29, 2016. With these revised dates, TNEC can perform the installation of the cofferdam and submarine cable intended to meet the Block Island Wind Farm operational deadline of December 2016.

Dated: October 29, 2015.
Perry F. Gayaldo,
Deputy Director, Office of Protected Resources, National Marine Fisheries Service.

[FR Doc. 2015-27974 Filed 11-2-15; 8:45 am]

BILLING CODE 3510-22-P